DEPARTMENT OF COMMERCE

Foreign-Trade Zones Board

[B-72-2018]

Foreign-Trade Zone (FTZ) 122—Corpus Christi, Texas; Authorization of Production Activity; Gulf Coast Growth Ventures LLC (Ethylene, Polyethylene and Monoethylene Glycol and Related Co-Products), San Patricio County, Texas

On November 1, 2018, the Port of Corpus Christi Authority, grantee of FTZ 122, submitted a notification of proposed production activity to the FTZ Board on behalf of Gulf Coast Growth Ventures LLC, within Subzone 122W, in San Patricio County, Texas.

The notification was processed in accordance with the regulations of the FTZ Board (15 CFR part 400), including notice in the Federal Register inviting public comment (83 FR 57718, November 16, 2018). On April 10, 2019, the applicant was notified of the FTZ Board's decision that no further review of the activity is warranted at this time. The production activity described in the notification was authorized, subject to the FTZ Act and the FTZ Board's regulations, including Section 400.14.

Dated: April 10, 2019.
Andrew McGilvray,
Executive Secretary.

[FR Doc. 2019-07545 Filed 4-15-19; 8:45 am]

BILLING CODE 3510-DS-P